DEPARTMENT OF DEFENSE

Defense Acquisition Regulations System

48 CFR Parts 204, 212, 217, and 252

[Docket DARS-2020-0034]

RIN 0750-AK81

Defense Federal Acquisition Regulation Supplement: Assessing Contractor Implementation of Cybersecurity Requirements (DFARS Case 2019-D041); Correction

AGENCY: Defense Acquisition Regulations System, Department of Defense (DoD).

ACTION: Interim rule; correction.

SUMMARY: DoD is correcting interim regulations that published in the Federal Register on September 29, 2020. The document heading carried an incorrect Regulation Identifier Number (RIN). This document reflects the correct RIN.

DATES: Effective date: The correction is effective October 16, 2020.

Comment due date: Comments for the interim rule published September 29, 2020, at 85 FR 61505, continue to be accepted on or before November 30, 2020, to be considered in the formulation of a final rule.

ADDRESSES: Submit comments identified by DFARS Case 2019-D041, using any of the following methods:

• Federal eRulemaking Portal: http://www.regulations.gov. Search for “DFARS Case 2019-D041”. Select “Comment Now” and follow the instructions provided to submit a comment. Please include “DFARS Case 2019-D041” on any attached documents.

• Email: osd.dfars@mail.mil. Include DFARS Case 2019-D041 in the subject line of the message.

Comments received generally will be posted without change to http://www.regulations.gov, including any personal information provided. To confirm receipt of your comment(s), please check www.regulations.gov, approximately two to three days after submission to verify posting.

FOR FURTHER INFORMATION CONTACT: Ms. Jennifer D. Johnson, Defense Acquisition Regulations System, OUSD(A&S)DPC(DARS), Room 3B938, 3060 Defense Pentagon, Washington, DC 20301-3060. Telephone 571-372-6100.

SUPPLEMENTARY INFORMATION: On September 29, 2020, DoD published an interim rule in the Federal Register at 85 FR 61505 titled “Assessing Contractor Implementation of Cybersecurity Requirements”. The document's heading, on page 61505, in the first column, contained the incorrect RIN 0750-AJ81. The correct RIN is “RIN 0750-AK81” and is in the heading of this correction.

Jennifer D. Johnson,
Regulatory Control Officer, Defense Acquisition Regulations System.

[FR Doc. 2020-22753 Filed 10-15-20; 8:45 am]

BILLING CODE 5001-06-P